DEPARTMENT OF DEFENSE

Office of the Secretary

[Docket ID: DoD-2022-OS-0113]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by April 10, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Qualitative Research to Better Understand the Experiences of Racial/Ethnic Minority Service Members; DoD-wide Data Collection and Analysis for the Department of Defense Qualitative and Quantitative Data Collection in Support of the Independent Review Commission on Sexual Assault Recommendations; OMB Control Number 0704-0644.

Type of Request: New.

Number of Respondents: 314.

Responses per Respondent: 1.

Annual Responses: 314.

Average Burden per Response: 1.42 hours.

Annual Burden Hours: 446.

Needs and Uses: In 2021, at the direction of President Biden, Secretary of Defense Lloyd Austin ordered an Independent Review Commission (IRC) to review sexual assault in the military and provide recommendations to remedy the issue within the DoD. In issuing their report, among other recommendations, the IRC advised “the Department should commission qualitative research to better understand the experiences of racial/ethnic minority service members and their perceptions of climate, attitudes, and experiences with sexual assault and sexual harassment, and gender and racial discrimination,” (Recommendation c7.1). This proposed research is in response to that specific recommendation by the IRC to better understand the intersection of gender, race, and ethnicity and experiences of sexual assault, sexual harassment, gender discrimination, and racial discrimination.

Furthermore, this research will address a critical knowledge gap that exists within the DoD. The DoD is committed to diversity, equity, and inclusion, and has conducted past research in this area; however, there are limited data on how racial/ethnic minority Service members perceive and experience sexual assault, sexual harassment, gender discrimination, and racial discrimination. This gap persists despite research that indicates racial/ethnic minority Service members are at an increased risk for these unwanted experiences (Breslin et al., 2022; Daniel et al., 2019). Using data from the 2017 Workplace and Equal Opportunity Survey of Active-Duty Members, researchers found Active-duty Service members who reported an unhealthy diversity and inclusion climate (e.g., experienced racial/ethnic harassment and discrimination, hazing/bullying) were more likely to identify as racial/ethnic minority members, female, and/or not heterosexual (Daniel et al., 2022). As experiences of sexual assault, sexual harassment, gender discrimination, and racial discrimination are associated with decreased health (e.g., overall wellbeing, increased depression, anxiety), they threaten not only the health and wellbeing of individual Service members but the overall health and readiness of the military (Daniel et al., 2022). With the DoD already facing significant recruiting shortfalls the past few years, these systemic risks for racial/ethnic Service members further threaten recruitment and retention in the military.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: February 28, 2024.
Aaron T. Siegel,
Alternate OSD Federal Register Liaison Officer, Department of Defense.

[FR Doc. 2024-05060 Filed 3-8-24; 8:45 am]

BILLING CODE 6001-FR-P